DEPARTMENT OF HEALTH AND HUMAN SERVICES

Centers for Disease Control and Prevention

[60Day-24-1317; Docket No. CDC-2024-0042]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a continuing information collection, as required by the Paperwork Reduction Act of 1995. This notice invites comment on a proposed information collection project titled National Healthcare Safety Network (NHSN) Coronavirus (COVID-19) Surveillance in Healthcare Facilities. This data collection is designed to standardize the data elements collected from across the country regarding the impact of COVID-19 on healthcare facilities.

DATES: CDC must receive written comments on or before August 5, 2024.

ADDRESSES: You may submit comments, identified by Docket No. CDC-2024-0042 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

National Healthcare Safety Network (NHSN) Coronavirus (COVID-19) Surveillance in Healthcare Facilities (OMB Control No. 0920-1317, Exp. 3/31/2026)—Revision—National Center for Emerging and Zoonotic Infection Diseases (NCEZID), Centers for Disease Control and Prevention (CDC).

Background and Brief Description

The Division of Healthcare Quality Promotion (DHQP), National Center for Emerging and Zoonotic Infectious Diseases (NCEZID), Centers for Disease Control and Prevention (CDC) collects data from healthcare facilities in the National Healthcare Safety Network (NHSN). NHSN allows facilities to share data immediately with local, state, and national partners for impact monitoring, decision-making, and surveillance activities. The NHSN COVID-19 Modules (OMB Control No. 0920-1317) are designed to standardize the data elements collected across the country regarding the impact of COVID-19 on healthcare facilities. In collecting standardized data, NHSN provides a vendor-neutral platform and a national lens into the burden hospitals are experiencing in a way that is designed to support the public health response. NHSN is a platform that exists in nearly all acute-care hospitals, nursing homes, and dialysis facilities in the US and can provide a secure, sturdy infrastructure.

The ICR was previously approved in May 2024 for 8,864,813 responses and 6,460,072 burden hours. The proposed changes in this new ICR include revisions to 12 existing data collection forms and addition of two new data collection forms. In this Revision, CDC requests OMB approval for an estimated annual burden of 6,455,846 hours. There is no cost to respondents other than their time to participate.

Estimated Annualized Burden Hours
Type of respondent | Form No. | Form | Number of respondents | Number of responses per respondent | Average burden per response (in hours) | Total burden (in hours)
Microbiologist | 57.102 | COVID-19 Hospital Data Form (excluding Psychiatric and Rehabilitation Facilities) | 5,200 | 365 | 90/60 | 2,847,000
Microbiologist | 57.103 | COVID-19 Hospital Data Form (Psychiatric and Rehabilitation Facilities) | 870 | 365 | 90/60 | 476,325
Microbiologist | 57.140 | National Healthcare Safety Network (NHSN) Registration Form | 11,500 | 1 | 5/60 | 958
| 57.144 | COVID-19 and Respiratory Pathogens Module Long Term Care Facility: Resident Impact and Facility Capacity Pathway | 16,500 | 52 | 25/60 | 357,500
Microbiologist | 57.145 | COVID-19 Module, Long Term Care Facility: Staff and Personnel Impact form | 11,621 | 52 | 5/60 | 50,358
Microbiologist | 57.155 | Point of Care Testing Results | 6,270 | 200 | 10/60 | 209,000
Microbiologist | 57.159 | VA Resident COVID-19 Event Form-LTCF | 195 | 25 | 35/60 | 2,844
Microbiologist | 57.160 | VA Staff and Personnel COVID-19 Event Form-LTCF | 176 | 25 | 30/60 | 2,200
Microbiologist | 57.218 | Weekly Respiratory Pathogen and Vaccination Summary for Residents of Long-Term Care Facilities (CSV) | 16,500 | 52 | 25/60 | 357,500
Microbiologist | 57.219 | Healthcare Personnel COVID-19 Vaccination Cumulative Summary (CSV) | 32,900 | 76 | 45/60 | 1,875,300
Microbiologist | 57.220 | Weekly Person Level Respiratory Pathogen and Vaccination for Residents of Long-Term Care Facilities-Long-term Care Facility Component (Manual Entry) | 1,600 | 52 | 60/60 | 83,200
Microbiologist | 57.220 | Weekly Person Level Respiratory Pathogen and Vaccination for Residents of Long-Term Care Facilities-Long-term Care Facility Component (CSV Entry) | 1,600 | 52 | 40/60 | 55,467
Microbiologist | 57.221 | Healthcare Personnel COVID-19 Person Level Vaccination-Long-Term Care Component (Manual) | 73 | 76 | 60/60 | 5,548
Microbiologist | 57.221 | Healthcare Personnel COVID-19 Person Level Vaccination-Long-Term Care Component (CSV) | 73 | 76 | 40/60 | 3,699
Microbiologist | 57.221 | Healthcare Personnel COVID-19 Person Level Vaccination-Healthcare Personnel Safety Component (Manual) | 73 | 76 | 60/60 | 5,548
Microbiologist | 57.221 | Healthcare Personnel COVID-19 Person Level Vaccination-Healthcare Personnel Safety Component (CSV) | 73 | 76 | 40/60 | 3,699
Microbiologist | 57.509 | Weekly Patient COVID-19 Vaccination Cumulative Summary for Dialysis Facilities | 7,700 | 12 | 75/60 | 115,500
Microbiologist | 57.510 | COVID-19 Module Dialysis Outpatient Facility | 150 | 56 | 30/60 | 4,200
Total |  |  |  |  |  | 6,455,846

Jeffrey M. Zirger,
Lead, Information Collection Review Office, Office of Public Health Ethics and Regulations, Office of Science, Centers for Disease Control and Prevention.

[FR Doc. 2024-12238 Filed 6-3-24; 8:45 am]

BILLING CODE 4163-18-P